DEPARTMENT OF TRANSPORTATION

Office of the Secretary

[Docket No. DOT-OST-2018-0206]

Air Ambulance and Patient Billing Advisory Committee Notice of Public Meeting

AGENCY: Office of the Secretary (OST), Department of Transportation (DOT).

ACTION: Notice of public meeting.

SUMMARY: The U.S. Department of Transportation (Department or DOT) is giving notice that a virtual public meeting of the Air Ambulance and Patient Billing (AAPB) Advisory Committee will take place on August 11, 2021. The AAPB Advisory Committee will discuss the impact of the Airline Deregulation Act (ADA) on States' ability to regulate air ambulance operations and whether to recommend that the ADA be amended as a means of improving the regulation of air ambulance providers.

DATES: The AAPB Advisory Committee will hold a virtual meeting on August 11, 2021, from 1:00 p.m. to 4:00 p.m., Eastern Daylight Time. Requests to attend the meeting must be received by August 10, 2021. Requests for accommodations because of a disability must be received by August 3, 2021. If you wish to speak during the meeting, you must submit a written copy of your remarks to DOT by August 3, 2021. Requests to submit written materials to be reviewed during the meeting must be received no later than August 3, 2021.

ADDRESSES: The virtual meeting will be open to the public and held via the Zoom Webinar Platform. Virtual attendance information will be provided upon registration. An agenda will be available on the AAPB Advisory Committee website at https://www.transportation.gov/airconsumer/AAPB at least one week before the meeting, along with copies of the meeting minutes after the meeting.

FOR FURTHER INFORMATION CONTACT: To register and attend this virtual meeting, please contact the Department by email at AAPB@dot.gov. Attendance is open to the public subject to any technical and/or capacity limitations. For further information, contact Robert Gorman, Senior Attorney, at (202) 366-9342 or by email at robert.gorman@dot.gov.

SUPPLEMENTARY INFORMATION:

I. Background

The FAA Reauthorization Act of 2018 (2018 FAA Act) requires the DOT Secretary, in consultation with the Secretary of Health and Human Services (HHS), to establish an advisory committee to review options to improve the disclosure of charges and fees for air medical services, better inform consumers of insurance options for such services, and protect consumers from balance billing. On September 12, 2019, the Department announced the creation of the AAPB Advisory Committee.

The AAPB Advisory Committee held a public meeting on January 15-16, 2020. At that meeting, the AAPB Advisory Committee gathered information about the air ambulance industry, air ambulance costs and billing, and insurance and air ambulance payment systems. The AAPB Advisory Committee also discussed disclosure and separation of charges, cost shifting, and balance billing.

On February 4, 2020, the Department established three Subcommittees: (1) The Subcommittee on Disclosure and Distinction of Charges and Coverage for Air Ambulance Services; (2) the Subcommittee on Prevention of Balance Billing, and (3) the Subcommittee on State and DOT Consumer Protection Authorities. On January 11, 2021, the Subcommittees filed reports and draft recommendations for the full Committee's review.

The AAPB Advisory Committee held a second public meeting on May 27-28, 2021. The Committee discussed the draft recommendations of the Subcommittees and developed its own recommendations.¹ At the conclusion of the May 28 meeting, Committee members expressed an interest in discussing the ADA's impact on States' ability to regulate the activities of air ambulance services and in making recommendations related to the ADA, Public Law 95-504, as a means of improving the regulation of air ambulance providers. The Committee's Designated Federal Officer (DFO) indicated that a supplemental Committee meeting would be held to discuss and consider this matter, if the Department determined that the Committee had authority to do so after a careful review of the Committee's charter and the 2018 FAA Act. The Department has now determined that the Committee has the authority to discuss and make recommendations related to the ADA. While representatives of DOT and HHS are voting members of the AAPB Advisory Committee, those two representatives will abstain from voting on the merits of any recommendation that the Committee may develop regarding the ADA.

¹ Presentations, Subcommittee reports, and other materials from the first two public meetings are available for public review on the AAPB Advisory Committee's docket, DOT-OST-2018-0206.

II. Summary of the Agenda

During the August 11, 2021 meeting, the AAPB Advisory Committee will deliberate the issue of whether and how to recommend that Congress amend the ADA. A more detailed agenda will be made available at least one week before the meeting at https://www.transportation.gov/airconsumer/AAPB.

III. Public Participation

The meeting will be open to the public and attendance may be limited due to virtual meeting constraints. To register, please send an email to the Department as set forth in the FOR FURTHER INFORMATION CONTACT section. The Department is committed to providing equal access to this meeting for all participants. If you need alternative formats or services because of a disability, such as sign language interpreter or other ancillary aids, please contact the person listed in the FOR FURTHER INFORMATION CONTACT section no later than August 3, 2021.

Members of the public may also present written comments at any time. The docket number referenced above (DOT-OST-2018-0206) has been established for committee documents, including any written comments that may be filed. At the discretion of the Chair, after completion of the planned agenda, individual members of the public may provide comments through the “Q&A” feature of the webinar platform or orally, time permitting. Any oral comments presented must be limited to the objectives of the committee and will be limited to five (5) minutes per person. Individual members of the public who wish to present oral comments must notify the Department of Transportation contact noted above via email that they wish to attend and present oral comments no later than August 3, 2021.

Speakers are requested to submit a written copy of their prepared remarks for inclusion in the meeting records and for circulation to AAPB Advisory Committee members by August 3, 2021. All prepared remarks submitted on time will be accepted and considered as part of the meeting's record.

IV. Viewing Documents

You may view documents mentioned in this notice at https://www.regulations.gov. After entering the docket number (DOT-OST-2018-0206), click the tab labeled “Browse & Comment on Documents” and choose the document to review.

Issued in Washington, DC, this 21st day of July 2021.
John E. Putnam,
Acting General Counsel.

[FR Doc. 2021-15882 Filed 7-26-21; 8:45 am]

BILLING CODE 4910-9X-P